FEDERAL COMMUNICATIONS COMMISSION

[WC Docket No. 02-361; WC Docket No. 03-45; WC Docket No. 03-211; DA 03-3777]

FCC Announces Agenda for the Voice Over IP Forum

AGENCY: Federal Communications Commission.

ACTION: Notice.

SUMMARY: The Federal Communications Commission announces a Forum to discuss Voice over Internet Protocol (VoIP). All FCC Commissioners will participate. The purpose of the Forum is to gather information concerning advancements, innovations, and regulatory issues related to VoIP services. Information concerning the Forum, including the agenda, copies of presentations, and bios of the speakers, will be available at the Forum Web page http://www.fcc.gov/voip/.

DATES: The Forum will take place Monday, December 1, 2003, 10:30 a.m. to 3 p.m. The event is open to the public, and there is no fee for attendance. Pre-registration is not required.

ADDRESSES: Federal Communications Commission, Commission Meeting Room, 445 12th Street, SW., Washington, DC 20554.

FOR FURTHER INFORMATION CONTACT: Robert Pepper, Office of Strategic Planning and Policy Analysis, (202) 418-2030, voipforum@fcc.gov.

SUPPLEMENTARY INFORMATION: The Federal Communications Commission announces a Forum to discuss Voice over Internet Protocol (VoIP). All FCC Commissioners will participate. The purpose of the Forum is to gather information concerning advancements, innovations, and regulatory issues related to VoIP services. The agenda and further details are attached. Information concerning the Forum, including the agenda, copies of presentations, and bios of the speakers, will be available at the Forum Web page http://www.fcc.gov/voip/.

The VoIP Forum will be webcast live and also archived for later viewing. Access to and additional information concerning the webcast is available at http://www.fcc.gov/realaudio/. Audio and video tapes of this meeting can be purchased from CACI Productions, 341 Victory Drive, Herndon, VA 20170, telephone number (703) 834-1470, Ext. 19; fax number (703) 834-0111.

The Forum will open with statements by the Chairman and the Commissioners. There will also be a background presentation by FCC staff regarding FCC Precedents regarding VoIP.

The first panel will address technical and market issues surrounding VoIP service. Panelists will be asked to describe the technology and capabilities of VoIP, and how VoIP can be used to offer end users lower-cost, innovative services with capabilities previously unavailable in voice communications. Panelists will address how the FCC might distinguish among the numerous services employing VoIP, and whether it could feasibly distinguish between VoIP and other IP-enabled applications facilitating communication (ranging from e-mail to instant messaging to videoconferencing to interactive online gaming). The panelists will include Kevin Werbach, Founder, Supernova Group, Charles H. Giancarlo, SVP and General Manager, Cisco Systems, Inc., Jeff Pulver, President and CEO, Pulver.com, John Hodulik, Managing Director, Communications Group, UBS, and John Billock, COO, Time Warner Cable.

The second panel will address public policy questions raised by VoIP. Panelists will be asked to address what, if any, regulatory obligations currently imposed upon traditional circuit-switched voice service providers should be placed upon VoIP providers and whether from either legal or technical perspectives such obligations are feasible. Panelists may focus on traditional utility regulatory issues such as non-discrimination and price regulation as well as social policies such as access by persons with disabilities, universal service, CALEA, and E911. The panelists will include Michael Gallagher, Acting Assistant Secretary, Department of Commerce, Commissioner Carl Wood, California PUC, Commissioner Charles Davidson, Florida PSC, James Crowe, CEO, Level3, Tom Evslin, CEO, ITXC, Jeffrey Citron, CEO, Vonage, and Dr. Gregg Vanderheiden, Rehabilitation Engineering Research Project on Telecommunications Access, University of Wisconsin.

The Forum will end with closing statements by Chairman and Commissioners.

Federal Communications Commission.
Kathleen Ham,
Deputy Chief, Office of Strategic Planning & Policy Analysis.

[FR Doc. 03-30543 Filed 12-9-03; 8:45 am]

BILLING CODE 6712-01-P